DEPARTMENT OF COMMERCE

Foreign-Trade Zones Board

[Docket 14-2008]

Foreign-Trade Zone 231—Stockton, CA; Application for Expansion

An application has been submitted to the Foreign-Trade Zones (FTZ) Board (the Board) by the Stockton Port District, grantee of FTZ 231, requesting authority to expand its zone to include an additional site in San Joaquin County, within the Sacramento Customs and Border Protection port of entry. The application was submitted pursuant to the provisions of the Foreign-Trade Zones Act, as amended (19 U.S.C. 81a-81u), and the regulations of the Board (15 CFR part 400). It was formally filed on February 25, 2008.

FTZ 231 was approved on April 15, 1998 (Board Order 967, 63 FR 23719, 4/30/98), and expanded on November 9, 2006 (Board Order 1489, 71 FR 67329, 11/21/06). The general-purpose zone currently consists of the following sites: Site 1 (600 acres)—within the Port of Stockton complex on the Stockton Deepwater Ship Channel; Site 2 (1,433 acres)—Rough and Ready Island on the Stockton Deepwater Ship Channel; Site 3 (1,453 acres)—located within the Stockton Metropolitan Airport; Site 4 (67 acres)—within the 72-acre ProLogis Park Tracy I, located at Grant Line Road and Paradise Avenue, Tracy; Site 5 (168 acres)—ProLogis Park Tracy II, 1941 North Christmas Road, Tracy; Site 6 (77 acres)—within the 600-acre ProLogis Park Patterson Pass, 25882 South Corporate Court, Tracy; Site 7 (106 acres)—ProLogis Park Duck Creek, 4720 East Farmington, Stockton.

The applicant is now requesting authority to expand the zone to include an additional site in San Joaquin County: Proposed Site 8 (468 acres)—within the 474-acre Opus Logistics Center—Stockton, located at 5959 Arch Road in Stockton. The site is owned by the Opus West Corporation. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is May 12, 2008. Rebuttal comments in response to material submitted during the foregoing period may be submitted during the subsequent 15-day period to May 27, 2008.

A copy of the application and accompanying exhibits will be available for public inspection at each of the following locations: U.S. Export Assistance Center, 1410 Ethan Way, Sacramento, California 95825; and, the Office of the Executive Secretary, Foreign-Trade Zones Board, Room 2111, U.S. Department of Commerce, 1401 Constitution Avenue, NW., Washington, DC 20230.

For further information, contact Camille Evans at Camille_Evans@ita.doc.gov or at (202) 482-2350.

Dated: February 25, 2008.
Andrew McGilvray,
Executive Secretary.

[FR Doc. E8-4840 Filed 3-10-08; 8:45 am]

BILLING CODE 3510-DS-P